CORPORATION FOR NATIONAL AND COMMUNITY SERVICE

Proposed Information Collection Renewal; Comment Request

AGENCY: Corporation for National and Community Service.

ACTION: Notice.

SUMMARY: The Corporation for National and Community Service (hereinafter the “Corporation”), as part of its continuing effort to reduce paperwork and respondent burden, conducts a pre-clearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning the proposed revision of its Voucher and Payment Request Form (OMB Number 3045-0014). Copies of the forms can be obtained by contacting the office listed below in the ADDRESSES section of this notice.

DATES: Written comments must be submitted to the office listed in the ADDRESSES section by August 9, 2004.

The Corporation is particularly interested in comments which:

• Evaluate whether the proposed collection of information is necessary for the proper performance of the functions of the Corporation, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

ADDRESSES: You may submit written input to the Corporation by any of the following methods:

(1) Electronically through the Corporation's e-mail address system to Bruce Kellogg at Bkellogg@cns.gov.

(2) By fax to 202-565-2742, Attention Mr. Bruce Kellogg.

(3) By mail sent to: Corporation for National and Community Service, National Service Trust Office, 8th Floor, Attn: Mr. Bruce Kellogg, 1201 New York Avenue NW., Washington, DC 20525.

(4) By hand delivery or by courier to the Corporation's mailroom at Room 6010 at the mail address given in paragraph (3) above, between 9 a.m. and 4 p.m. Monday through Friday, except Federal holidays.

ADDRESSES: Send comments to Bruce Kellogg, National Service Trust, Corporation for National and Community Service, 1201 New York Ave., NW., Washington, DC, 20525.

FOR FURTHER INFORMATION CONTACT: Bruce Kellogg, (202) 606-5000, ext. 526.

SUPPLEMENTARY INFORMATION:

I. Background

The Corporation for National and Community Service supports programs that provide opportunities for individuals who want to become involved in national service. The service opportunities cover a wide range of activities over varying periods of time. Upon successfully completing an agreed-upon term of service in an approved AmeriCorps program, a national and community service participant—an AmeriCorps member—receives an “education award”. This award is an amount of money set aside in the member's name in the National Service Trust Fund. The education award can be used to make payments towards qualified student loans or pay for educational expenses at qualified post-secondary institutions and approved school-to-work opportunities programs. Members have seven years in which to draw against any unused balance.

The National Service Trust is the office within the Corporation that administers the education award program. This involves tracking the service for all AmeriCorps members, ensuring that certain requirements of the Corporation's enabling legislation are met, and processing school and loan payments that the members authorize.

II. Current Action

After an AmeriCorps member completes a period of national and community service, the individual receives an education award that can be used to pay against qualified student loans or pay for current post secondary educational expenses. The Voucher and Payment Request Form is the document that a member uses to access his or her account in the National Service Trust.

The form serves three purposes: (1) The AmeriCorps member uses it to request and authorize a specific payment to be made from his or her account, (2) the school or loan company uses it to indicate the amount for which the individual is eligible, and (3) the school or loan company and member both certify that the payment meets various legislative requirements. When the Corporation receives a voucher, it is processed and the U.S. Treasury issues a payment to the loan holder or school on behalf of the AmeriCorps member.

The form was first designed and some variation of it has been in use since the summer of 1994. We are proposing revisions to clarify certain sections of the existing form and to include terminology included in recent legislative changes. The changes impose no additional burden. The legislated change in terminology modifies the definition of loans “made directly to the student * * *” to loans “made, insured, or guaranteed directly to the student * * *”

Modifications to Section A clarify instructions to the member on filling out that portion of the Voucher, especially the dollar amount the member requests and authorizes. Similarly, modifications to Section B clarify information provided to loan holders and educational institutions, particularly in regard to stating the dollar amount for educational expenses.

The Corporation seeks to continue using this particular form, albeit in a revised version. The current form is due to expire June 30, 2004.

Type of Review: Renewal.

Agency: Corporation for National and Community Service.

Title: Voucher and Payment Request Form.

OMB Number: 3045-0014.

Agency Number: None.

Affected Public: Individuals who have completed a term of national service who wish to access their education award accounts.

Total Respondents: 69,000 responses annually (estimated annual average over the next three years).

Frequency: Experience has shown that some members may not ever use the education award and others use it several times a year).

Average Time Per Response: Total of 5 minutes (one half minute for the AmeriCorps member's section and 4½ minutes for the school or lender).

Estimated Total Burden Hours: 5,750 hours.

Total Burden Cost (capital/startup): None.

Total Burden Cost (operating/maintenance): None.

Comments submitted in response to this notice will be summarized and/or included in the request for Office of Management and Budget approval of the information collection request; they will also become a matter of public record.

Dated: June 2, 2004.
Ruben Wiley,
Manager, National Service Trust.

[FR Doc. 04-12947 Filed 6-7-04; 8:45 am]

BILLING CODE 6050-$$-P